DEPARTMENT OF STATE

[Delegation of Authority No. 346]

Delegation by the Secretary of State to the Assistant Secretary for East Asian and Pacific Affairs of the Authority To Waive the Visa Ban Under the JADE Act

By virtue of the authority vested in the Secretary by the laws of the United States, including the State Department Basic Authorities Act, as amended (22 U.S.C. 2651a), Section 5(a) of the Tom Lantos Block Burmese Junta's Anti-Democratic Efforts (JADE) Act of 2008 (Pub. L. 110-286), Presidential Memorandum of August 29, 2012, I hereby delegate to the Assistant Secretary for East Asian and Pacific Affairs, to the extent authorized by law, the authority under Section 5(a)(2) to waive the visa bans imposed pursuant to Section 5(a)(1) of Public Law 110-286.

Any act, executive order, regulation, or procedure subject to, or affected by, this delegation shall be deemed to be such act, executive order, regulation, or procedure as amended from time to time.

Notwithstanding this delegation of authority, the Secretary, the Deputy Secretary, or the Deputy Secretary for Management and Resources may at any time exercise any authority or function delegated by this delegation of authority.

This document shall be published in the Federal Register.

Dated: September 29, 2012.
Hillary Rodham Clinton,
Secretary of State.

[FR Doc. 2012-27547 Filed 11-9-12; 8:45 am]

BILLING CODE 4710-30-P